ENVIRONMENTAL PROTECTION AGENCY

[FRL-6947-4]

ABC One Hour Dry Cleaners Superfund Site; Notice of Proposed Settlement

AGENCY: Environmental Protection Agency.

ACTION: Notice of proposed settlement.

SUMMARY: The United States Environmental Protection Agency is proposing to enter into a settlement with ABC One Hour Dry Cleaners, Inc, Victor Melts and Martha Melts pursuant to section 122(h) of the Comprehensive Environmental Response, Compensation, and Liability Act of 1980, as amended, regarding the ABC One Hour Dry Cleaners Superfund Site located in Jacksonville, North Carolina. EPA will consider public comments on the proposed settlement for thirty (30) days. EPA may withdraw from or modify the proposed settlement should such comments disclose facts or considerations which indicate the proposed settlement is inappropriate, improper or inadequate. Copies of the settlement are available from: Ms. Paula Batchelor, U.S. EPA, Region 4 (WMD-CPSB), Sam Nunn Atlanta Federal Center, 61 Forsyth Street, S.W., Atlanta, Georgia 30303, (404) 562-8887.

Written comments may be submitted to Ms. Batchelor within thirty (30) calendar days of the days of this publication.

Dated: February 6, 2001.
Franklin E. Hill,
Chief, CERCLA Program Services Branch, Waste Management Division.

[FR Doc. 01-4865 Filed 2-27-01; 8:45 am]

BILLING CODE 6560-50-P